DEPARTMENT OF ENERGY

Federal Energy Regulatory Commission

Combined Notice of Filings #2

Take notice that the Commission received the following electric rate filings:

Docket Numbers: ER18-394-000.

Applicants: Midcontinent Independent System Operator, Inc.

Description: § 205(d) Rate Filing: 2017-12-06_Attachment P Grandfathered Agreements Clean-up Filing to be effective 2/5/2018.

Filed Date: 12/6/17.

Accession Number: 20171206-5084.

Comments Due: 5 p.m. ET 12/27/17.

Docket Numbers: ER18-395-000.

Applicants: American Falls Solar, LLC.

Description: § 205(d) Rate Filing: Notice of Change in Status and MBR Tariff Amendments to be effective 2/5/2018.

Filed Date: 12/6/17.

Accession Number: 20171206-5095.

Comments Due: 5 p.m. ET 12/27/17.

Docket Numbers: ER18-396-000.

Applicants: American Falls Solar II, LLC.

Description: § 205(d) Rate Filing: Notice of Change in Status and MBR Tariff Amendments to be effective 2/5/2018.

Filed Date: 12/6/17.

Accession Number: 20171206-5096.

Comments Due: 5 p.m. ET 12/27/17.

Docket Numbers: ER18-397-000.

Applicants: SunE Beacon Site 2 LLC.

Description: § 205(d) Rate Filing: Notice of Change in Status and MBR Tariff Amendments to be effective 2/5/2018.

Filed Date: 12/6/17.

Accession Number: 20171206-5097.

Comments Due: 5 p.m. ET 12/27/17.

Docket Numbers: ER18-398-000.

Applicants: SunE Beacon Site 5 LLC.

Description: § 205(d) Rate Filing: Notice of Change in Status and MBR Tariff Amendments to be effective 2/5/2018.

Filed Date: 12/6/17.

Accession Number: 20171206-5098.

Comments Due: 5 p.m. ET 12/27/17.

Docket Numbers: ER18-399-000.

Applicants: PJM Interconnection, L.L.C.

Description: § 205(d) Rate Filing: Amendment to Service Agreement No. 3322, Queue No. X2-011 to be effective 5/1/2012.

Filed Date: 12/6/17.

Accession Number: 20171206-5110.

Comments Due: 5 p.m. ET 12/27/17.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 6, 2017.
Nathaniel J. Davis, Sr.,
Deputy Secretary.

[FR Doc. 2017-26742 Filed 12-11-17; 8:45 am]

BILLING CODE 6717-01-P